DEPARTMENT OF ENERGY

Federal Energy Regulatory Commission

[Docket Nos. RM01-12-000 and ER02-653-002]

Remedying Undue Discrimination Through Open Access Transmission Service and Standard Electricity Market Design; PacifiCorp; Notice of FERC Staff Participation in Discussions With Oregon Commission and Others

September 17, 2003.

The Federal Energy Regulatory Commission hereby gives notice that members of its staff will participate in discussions with the Oregon Public Utility Commission and other stakeholders on matters concerning retail access in Oregon. The staff's participation is part of the Commission's ongoing outreach efforts.

The discussions may address matters at issue in two proceedings:

• Docket No. RM01-12-000, Remedying Undue Discrimination Through Open Access Transmission Service and Standard Electricity Market Design; and

• Docket No. ER02-653-002, PacifiCorp.

The discussions will be held on Friday, October 3, 2003, and are expected to begin at approximately 9:30 am. The discussions will take place at the Oregon Public Utility Commission, 550 Capitol Street NE., Salem, OR 97301. The discussions are open to the public.

For more information, contact Patricia Dalton, Office of Markets, Tariffs and Rates, Federal Energy Regulatory Commission at (202) 502-8044 or patricia.dalton@ferc.gov.

Magalie R. Salas,
Secretary.

[FR Doc. 03-24238 Filed 9-24-03; 8:45 am]

BILLING CODE 6717-01-P